DEPARTMENT OF LABOR

Employment and Training Administration

[TA-W-64,928]

Advanced Micro Devices, Inc., Assembly Process Division, Sunnyvale, CA; Notice of Termination of Investigation

Pursuant to Section 221 of the Trade Act of 1974, as amended, an investigation was initiated on January 22, 2009, in response to a worker petition filed on behalf of workers at Advanced Micro Devices, Inc., Assembly Process Division, Sunnyvale, California.

The petitioners have requested that the petition be withdrawn. Consequently, the investigation has been terminated.

Signed at Washington, DC, this 12th day of March 2009.
Elliott S. Kushner,
Certifying Officer, Division of Trade Adjustment Assistance.

[FR Doc. E9-7736 Filed 4-6-09; 8:45 am]

BILLING CODE 4510-FN-P